DEPARTMENT OF JUSTICE

Antitrust Division

Notice Pursuant to the National Cooperative Research and Production Act of 1993—the Information Technology Industry Council, Inc./the International Committee for Information Technology Standards

Notice is hereby given that, on June 25, 2008, pursuant to Section 6(a) of the National Cooperative Research and Production Act of 1993, 15 U.S.C. 4301 et seq. (“the Act”), The Information Technology Industry Council, Inc./The InterNational Committee for Information Technology Industry Council, Inc. (“ITI/INCITS”) has filed written notifications simultaneously with the Attorney General and the Federal Trade Commission disclosing additions or changes to its standards development activities. The notifications were filed for the purpose of extending the Act's provisions limiting the recovery of antitrust plaintiffs to actual damages under specified circumstances. Specifically, ITI/INCITS has approved 100 new national standards in such areas as Biometrics, Fibre Channel, Office Processing, Identification Cards and OSI, initiated numerous other new standards development projects, and restructured several of its technical committees, task groups and management committees. More detail regarding these activities—including a catalog of current standards, descriptions of proposed standards under public review, and information concerning comment procedure and deadlines—may be found at http://www.incits.org.

On September 21, 2004, ITI/INCITS filed its original notification pursuant to Section 6(a) of the Act. The Department of Justice published a notice in the Federal Register pursuant to Section 6(b) of the Act on December 16, 2004 (69 FR 75346).

Patricia A. Brink,
Deputy Director of Operations, Antitrust Division.

[FR Doc. E8-18182 Filed 8-7-08; 8:45 am]

BILLING CODE 4410-11-M